ENVIRONMENTAL PROTECTION AGENCY

[EPA-HQ-OAR-2007-0069; FRL-9905-01-OAR]

Proposed Information Collection Request; Comment Request; The SunWise Program

AGENCY: Environmental Protection Agency (EPA).

ACTION: Notice.

SUMMARY: The Environmental Protection Agency is planning to submit an information collection request (ICR) for “The SunWise Program” (EPA ICR No. 1904.08, OMB Control No. 2060-0439) to the Office of Management and Budget (OMB) for review and approval in accordance with the Paperwork Reduction Act (44 U.S.C. 3501 et seq.). Before doing so, EPA is soliciting public comments on specific aspects of the proposed information collection as described below. This is a proposed extension of the ICR, which is currently approved through June 30, 2014. An Agency may not conduct or sponsor and a person is not required to respond to a collection of information unless it displays a currently valid OMB control number.

DATES: Comments must be submitted on or before March 3, 2014.

ADDRESSES: Submit your comments, referencing Docket ID No. EPA-OAR-2007-0069 online using www.regulations.gov (our preferred method), by email to a-and-rdocket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, Office of Atmospheric Programs (6205J), Environmental Protection Agency, 1200 Pennsylvania Ave. NW., Washington, DC 20460; telephone number (202) 343-9126; fax number: (202) 343-2338; email address: burchard.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The SunWise Program is a school and community-based sun safety education program for children grades K-8. The Program's objective is to reduce the incidence of, and morbidity and mortality from skin cancer, cataracts, and other UV-related health effects in the United States. The following collection of information will be used for both program material distribution and determining program effectiveness and participant satisfaction:

• A SunWise Program participant registration form;

• A participating-teacher survey, measuring experience with the Program;

• A participating-student survey identifying sun safety knowledge before and after participation in the Program;

• Follow-up phone interviews with teachers who complete the survey;

• A SunWise Don't Fry Day pledge form;

• Sun Safety Certification Tutorial questions (for community organizations participating in the SunWise program); and a

• Pretest of a SunWise partner survey

Form Numbers: None.

Respondents/affected entities: Elementary and middle school students and educators, recreation workers, and health educators.

Respondent's obligation to respond: Voluntary.

Estimated number of respondents: 8,980.

Frequency of response: Annual.

Total estimated burden: 1,632 hours per year. Burden is defined at 5 CFR 1320.03(b).

Total estimated cost: $107,172.45 per year, which includes no annualized capital or operation & maintenance costs.

Changes in Estimates: There is no change in the average annual burden hours currently identified in the OMB Inventory of Approved ICR Burdens.

Dated: December 18, 2013.
Drusilla Hufford,
Director, Stratospheric Protection Division.

[FR Doc. 2013-31349 Filed 12-30-13; 8:45 am]

BILLING CODE 6560-50-P